DEPARTMENT OF LABOR

Employment and Training Administration

[TA-W-54,128]

Precision Disc Corporation, Knoxville, TN; Notice of Revised Determination on Reconsideration of Alternative Trade Adjustment Assistance

By letter dated September 10, 2004, a union representative of the Tennessee AFL-CIO, Technical Assistance requested administrative reconsideration regarding Alternative Trade Adjustment Assistance (ATAA). The negative determination was signed on August 12, 2004 and published in the Federal Register on August 20, 2004 (69 FR 51713).

The workers of Precision Disc Corporation, Knoxville, Tennessee were certified eligible to apply for Trade Adjustment Assistance (TAA) on August 12, 2004.

The initial ATAA investigation determined that the skills of the subject worker group are easily transferable to other positions in the local area.

The petitioner alleges in the request for reconsideration that the skills of the workers at the subject firm are not easily transferable.

Additional investigation has determined that the workers possess skills that are not easily transferable. A significant number or proportion of the worker group are age fifty years or over. Competitive conditions within the industry are adverse.

Conclusion

After careful review of the additional facts obtained on reconsideration, I conclude that the requirements of Section 246 of the Trade Act of 1974, as amended, have been met for workers at the subject firm.

In accordance with the provisions of the Act, I make the following certification:

“All workers of Precision Disc Corporation, Knoxville, Tennessee, who became totally or partially separated from employment on or after January 27, 2003 through August 12, 2006, are eligible to apply for adjustment assistance under Section 223 of the Trade Act of 1974, and are also eligible to apply for alternative trade adjustment assistance under Section 246 of the Trade Act of 1974.”

Signed in Washington, DC, this 21st day of September 2004.
Elliott S. Kushner,
Certifying Officer, Division of Trade Adjustment Assistance.

[FR Doc. E4-2549 Filed 10-7-04; 8:45 am]

BILLING CODE 4510-30-P